DEPARTMENT OF DEFENSE

Department of the Army, Corps of Engineers

City of Norfolk Flood Risk Management Study NEPA Scoping Meeting and Public Comment Period

AGENCY: Department of the Army, U.S. Army Corps of Engineers, DoD.

ACTION: Notice of Intent/NEPA Scoping meeting and public comment period.

SUMMARY: Pursuant to the requirements of section 102(2)(C) of the National Environmental Policy Act (NEPA) of 1969, as amended, 42 U.S.C. 4321-4370, as implemented by the Council on Environmental Quality Regulations (40 CFR parts 1500-1508), the U.S. Army Corps of Engineers (USACE) plans to prepare a Feasibility Study with an integrated Environmental Impact Statement (EIS) to evaluate environmental impacts from reasonable project alternatives and to determine the potential for significant impacts related to reduce future flood risk in ways that support the long‐term resilience and sustainability of the coastal ecosystem and surrounding communities due to sea level rise, local subsidence and storms, and to reduce the economic costs and risks associated with large‐scale flood and storm events in the City of Norfolk, Virginia.

DATES: Scoping comments may be submitted until June 30, 2016.

ADDRESSES: The public is invited to submit NEPA scoping comments at the meeting and/or submit comments to Mr. David Schulte, Department of the Army, U.S. Army Corps of Engineers, Norfolk District, Fort Norfolk, 803 Front St., Norfolk, VA 23510 or via email: David.M.Schulte@usace.army.mil. The project title and the commenter's contact information should be included with submitted comments.

FOR FURTHER INFORMATION CONTACT: David Schulte, (757) 201-7007.

SUPPLEMENTARY INFORMATION: Historical storms have impacted the City of Norfolk. In response to these storms, USACE is investigating measures to reduce future flood risk in ways that support the long‐term resilience and sustainability of the coastal ecosystem and surrounding communities, and reduce the economic costs and risks associated with flood and storm events. In support of this goal, USACE completed the North Atlantic Coast Comprehensive Study, which identified nine high risk areas on the Atlantic Coast for further analysis based on preliminary findings.

The City of Norfolk was identified as one of the nine areas of high risk, or Focus Areas, that warrants an in-depth investigation into potential coastal storm risk management measures. The Norfolk Focus Area is located on the southern shore of the Chesapeake Bay identified as one of the highest risk areas for relative sea level rise on the Atlantic Coast.

USACE is the lead federal agency and the city of Norfolk will be the non-federal sponsor for the study. The city of Norfolk has experienced an accelerating increase in nuisance flooding due to storms of varying magnitude, with large storms (nor'easters and hurricanes) often causing major flooding in many areas of the City. The most recent events that flooded major portions of the City were the November 2009 Northeaster, and Hurricanes Isabel (2003), Irene (2011), and Sandy (2012). The feasibility study will address potential structural and non-structural alternatives to mitigate impacts from flooding and determining the Federal interest in cost-sharing for those alternatives.

As required by Council on Environmental Quality's Principles, Requirements and Guidelines for Water and Land Related Resources Implementation Studies all reasonable alternatives to the proposed Federal action that meet the purpose and need will be considered in the EIS. These alternatives will include no action and a range of reasonable alternatives for reducing flood risk within the city of Norfolk.

Scoping/Public Involvement. The public NEPA scoping meeting will be held on May 25, 2016, from 5 p.m.-8 p.m. It will be held at the Mary D. Pretlow Anchor Branch Library 111 W Ocean View Ave, Norfolk, VA 23503. Federal, state, and local agencies, Indian tribes, and the public are invited to provide scoping comments to identify issues and potentially significant effects to be considered in the analysis.

Brenda S. Bowen,
Army Federal Register Liaison Officer.

[FR Doc. 2016-10002 Filed 4-28-16; 8:45 am]

BILLING CODE 3720-58-P